DEPARTMENT OF HOUSING AND URBAN DEVELOPMENT

[Docket No. FR-4826-N-02]

Notice of Availability of Alternative Fuel Vehicle Reports

AGENCY: Office of the Assistant Secretary for Administration, HUD.

ACTION: Notice of availability of reports.

SUMMARY: Through this notice, HUD is making available on its Web site, a copy of HUD's Alternative Fuel Vehicles Report for Fiscal Year 2002 that was prepared in accordance with the Energy Policy Act of 1992.

FOR FURTHER INFORMATION CONTACT: Robert E. Byrd, Jr., Director, Facilities Management Division, Office of Administration, Department of Housing and Urban Development, 451 Seventh Street, SW., Washington, DC 20410-3000, at (202) 708-1955 (this is not a toll-free number). Persons with hearing or speech impairments may access these numbers through TTY by calling the toll-free Federal Information Relay Service number at (800) 877-8339.

SUPPLEMENTARY INFORMATION: The Energy Policy Act (42 U.S.C. 13201 et seq.) (the Act) establishes a comprehensive plan to achieve economic, energy and environmental benefits by promoting the use of alternative fuels. A major goal of the Act is to have the Federal government exercise leadership in the use of alternative fuel vehicles. To that end, the Act established alternative fuel vehicle purchasing requirements for the Federal fleets of government agencies, and requires Federal agencies to report on their compliance with the requirements of the Act. A copy of HUD's Alternative Fuel Vehicle Reports can be obtained via the World Wide Web at http://www.hud.gov/offices/adm/reports/admreports.cfm.

Dated: June 20, 2003.
Vickers B. Meadows,
Assistant Secretary for Administration/Chief Information Officer.

[FR Doc. 03-16511 Filed 6-30-03; 8:45 am]

BILLING CODE 4210-01-P